GENERAL SERVICES ADMINISTRATION

48 CFR Parts 501 and 552

[GSAR Case 2024-G502; Docket No. GSA-GSAR-2024-0022; Sequence No. 1]

RIN 3090-AK81

General Services Administration Acquisition Regulation (GSAR); Update to OMB Approval Table

AGENCY: Office of Acquisition Policy, General Services Administration (GSA).

ACTION: Final rule; postponement of effectiveness.

SUMMARY: The General Services Administration is postponing the effectiveness of amendments that appeared in the Federal Register on December 27, 2024, to provide for a 60-day postponement of the effectiveness in compliance with the Presidential Memorandum titled Regulatory Freeze Pending Review, signed on January 20, 2025, by President Donald J. Trump.

DATES: This rule is effective March 27, 2025. As of January 31, 2025, the effectiveness of the amendments to 48 CFR parts 501 and 552 published at 89 FR 105474, December 27, 2024, are postponed until March 27, 2025.

FOR FURTHER INFORMATION CONTACT: For clarification of content, contact Ms. Adina Torberntsson, Procurement Analyst, at gsarpolicy@gsa.gov or 720-475-0568. For information pertaining to status or publication schedules, contact the Regulatory Secretariat at GSARegSec@gsa.gov or 202-501-4755. Please cite GSAR Case 2024-G502.

SUPPLEMENTARY INFORMATION:

Final Rule and Postponement of Effectiveness

The General Services Administration is postponing the effectiveness of amendments in the General Services Administration Acquisition Regulation titled “Update to OMB Approval Table,” that appeared in the Federal Register on December 27, 2024, to provide for a 60-day postponement in the effectiveness in compliance with the Presidential Memorandum titled “Regulatory Freeze Pending Review,” signed on January 20, 2025, by President Donald J. Trump.

Accordingly, GSA is correcting the regulations to provide for an update to the effective date of GSAR provision 552.270-1 from JAN 2025 to MAR 2025.

List of Subjects in 48 CFR Part 552

Government procurement.

Jeffrey A. Koses,
Senior Procurement Executive, Office of Acquisition Policy, Office of Government-wide Policy, General Services Administration.

Therefore, GSA amends 48 CFR part 552 as set forth below:

PART 552—SOLICITATION PROVISIONS AND CONTRACT CLAUSES

1. The authority citation for 48 CFR part 552 continues to read as follows:

Authority: 40 U.S.C. 121(c).

552.270-1 [Amended]

2. Amend section 552.270-1 by removing the provision date “JAN 2025” and adding in its place the date “MAR 2025”.

[FR Doc. 2025-01979 Filed 1-30-25; 8:45 am]

BILLING CODE 6820-61-P